DEPARTMENT OF ENERGY

Federal Energy Regulatory Commission

Combined Notice of Filings #1

August 9, 2007.

Take notice that the Commission received the following electric corporate filings:

Docket Numbers: EC07-120-000.

Applicants: Sempra Energy Trading Corp.; Sempra Energy Solutions, LLC; The Royal Bank of Scottland plc.

Description: Joint application for authorization for disposition of jurisdictional facilities and request for expedited action.

Filed Date: 07/30/2007.

Accession Number: 20070802-0095.

Comment Date: 5 p.m. Eastern Time on Monday, August 20, 2007.

Docket Numbers: EC07-123-000.

Applicants: Chandler Wind Partners, LLC; Foote Creek II, LLC; Foote Creek IV, LLC; Foote Creek III, LLC; NEVADA SUN-Peak Limited Partnership; Ridge Crest Wind Partners, LLC; Caithness 251 Wind, LLC; Caithness VG Wind, LLC; Caithness Energy, LLC.; ArcLight Renewco Holdings, LLC.

Description: Chandler Wind Partners, LLC et al. submits an Application Under Section 203 of the Federal Power Act to Dispose of Jurisdictional Facilities.

Filed Date: 08/02/2007.

Accession Number: 20070807-0044.

Comment Date: 5 p.m. Eastern Time on Thursday, August 23, 2007.

Take notice that the Commission received the following exempt wholesale generator filings:

Docket Numbers: EG07-76-000.

Applicants: Logan Wind Energy, LLC.

Description: Notice of Self-Certification of Exempt Wholesale Generator Status of Logan Wind Energy, LLC.

Filed Date: 08/06/2007.

Accession Number: 20070806-5028.

Comment Date: 5 p.m. Eastern Time on Monday, August 27, 2007.

Take notice that the Commission received the following electric rate filings:

Docket Numbers: ER01-1385-030; ER01-3155-021; ER04-230-031; EL01-45-029.

Applicants: New York Independent System Operator, Inc.

Description: NYISO filing of eleventh quarterly combined cycle report.

Filed Date: 06/29/2007.

Accession Number: 20070629-5059.

Comment Date: 5 p.m. Eastern Time on Thursday, August 16, 2007.

Docket Numbers: ER05-6-100; EL04-135-103; EL02-111-120; EL03-212-116

Applicants: Midwest Independent Transmission System Operator, Inc.; PJM Interconnection, L.L.C.; Ameren Services Company.

Description: PJM Interconnection, LLC & PJM Transmission Owners et al. submits a compliance filing, in compliance with FERC's 11/18/04 Order.

Filed Date: 08/01/2007.

Accession Number: 20070807-0046.

Comment Date: 5 p.m. Eastern Time on Wednesday, August 22, 2007.

Docket Numbers: ER06-311-005.

Applicants: New York Independent System Operator, Inc.; New York Transmission Owners.

Description: New York Independent System Operator, Inc. & the New York Transmission Owners submit an errata to the 7/30/07 filing.

Filed Date: 08/03/2007.

Accession Number: 20070806-0431.

Comment Date: 5 p.m. Eastern Time on Monday, August 20, 2007.

Docket Numbers: ER07-365-003.

Applicants: ISO New England, Inc. & New England Power Pool.

Description: ISO New England Inc. et al. submit Market Rule 1 revisions to provide a process for exports of capacity across import-constrained Capacity Zones over tie lines to external regions.

Filed Date: 08/06/2007.

Accession Number: 20070807-0120.

Comment Date: 5 p.m. Eastern Time on Monday, August 27, 2007.

Docket Numbers: ER07-809-001.

Applicants: Florida Power Corporation.

Description: Florida Power Corporation dba Progress Energy Florida, Inc. submits its response to FERC's 6/21/07 letter re an amended Interconnection Agreement with Seminole Electric Cooperative.

Filed Date: 08/02/2007.

Accession Number: 20070806-0177.

Comment Date: 5 p.m. Eastern Time on Thursday, August 23, 2007.

Docket Numbers: ER07-870-001.

Applicants: Oncor Electric Delivery Company.

Description: Oncor Electric Delivery Company submits Rate Schedule 6 under its FERC Electric Tariff, Tenth Revised Volume 1, for transmission service to, from and over certain interconnections.

Filed Date: 08/03/2007.

Accession Number: 20070807-0043.

Comment Date: 5 p.m. Eastern Time on Friday, August 24, 2007.

Docket Numbers: ER07-964-001; ER98-1150-010.

Applicants: Tucson Electric Power Company; UNS Electric, Inc.

Description: Tucson Electric Power Company et al. submit amendments to their respective market-based rate tariffs in compliance with Order 697 pursuant to Section 205 of the Federal Power Act.

Filed Date: 08/02/2007.

Accession Number: 20070806-0178.

Comment Date: 5 p.m. Eastern Time on Thursday, August 23, 2007.

Docket Numbers: ER07-1234-000.

Applicants: Upper Peninsula Power Company.

Description: Upper Peninsula Power Co. submits a Letter Agreement with the Escanaba Municipal Electric Utility memorializing the parties' understanding concerning its sale to Escanaba of capacity on an emergency basis.

Filed Date: 08/02/2007.

Accession Number: 20070806-0172.

Comment Date: 5 p.m. Eastern Time on Thursday, August 23, 2007.

Docket Numbers: ER07-1235-000.

Applicants: New England Participating Transmission Owners.

Description: Participating Transmission Owners Administrative Committee on behalf of New England's Participating Transmission Owners submits proposed revisions to Schedule 21 under Section II.

Filed Date: 08/02/2007.

Accession Number: 20070806-0173.

Comment Date: 5 p.m. Eastern Time on Thursday, August 23, 2007.

Docket Numbers: ER07-1236-000.

Applicants: Yuma Cogeneration Associates.

Description: Petition of Yuma Cogeneration Associates for order accepting market-based rate tariff for filing and granting waivers.

Filed Date: 08/02/2007.

Accession Number: 20070806-0174.

Comment Date: 5 p.m. Eastern Time on Thursday, August 23, 2007.

Docket Numbers: ER07-1237-000.

Applicants: Up Power Marketing, LLC.

Description: UP Power Marketing LLC submits its Application under FPA 205 for order establishing rate schedule, and granting authorizations, blanket approval, and waivers.

Filed Date: 08/02/2007.

Accession Number: 20070806-0176.

Comment Date: 5 p.m. Eastern Time on Thursday, August 23, 2007.

Docket Numbers: ER07-1238-000.

Applicants: E.ON U.S., LLC.

Description: E.ON US., LLC on behalf of Louisville Gas and Electric Company et al. submit an executed Letter Agreement with the Tennessee Valley Authority in its role as Reliability Coordinator.

Filed Date: 08/03/2007.

Accession Number: 20070806-0175.

Comment Date: 5 p.m. Eastern Time on Friday, August 24, 2007.

Docket Numbers: ER07-1239-000; ER07-1240-000.

Applicants: Tiverton Power, Inc.; Rumford Power, Inc.

Description: Tiverton Power Inc. et al. notifies FERC that the market-based rate application and accompanying tariffs submitted to the Commission on 5/24/07 should have reflected the name changes.

Filed Date: 08/03/2007.

Accession Number: 20070807-0125.

Comment Date: 5 p.m. Eastern Time on Friday, August 24, 2007.

Docket Numbers: ER07-1241-000.

Applicants: Electric Transmission Texas, LLC.

Description: Electric Transmission Texas, LLC submits Original Tariff Sheets designated as Open Access Transmission Tariff, FERC Electric Tariff Volume 1.

Filed Date: 08/03/2007.

Accession Number: 20070807-0126.

Comment Date: 5 p.m. Eastern Time on Friday, August 24, 2007.

Docket Numbers: ER07-1242-000.

Applicants: Public Service Company of Colorado; Cheyenne Light, Fuel and Power Company.

Description: Xcel Energy Services Inc. agent for Public Service Company of Colorado submits a Notice of Termination for the 12/19/03 Power Purchase Agreement FERC 95 with Cheyenne Light, Fuel and Power Company.

Filed Date: 08/03/2007.

Accession Number: 20070807-0127.

Comment Date: 5 p.m. Eastern Time on Friday, August 24, 2007.

Docket Numbers: ER07-1243-000.

Applicants: Public Service Company of Colorado.

Description: Public Service Company of Colorado submits a Notice of Termination of the 12/8/98 Power Purchase Agreement with the Town of Julesburg, CO designated as Electric Rate Schedule 46.

Filed Date: 08/03/2007.

Accession Number: 20070807-0128.

Comment Date: 5 p.m. Eastern Time on Friday, August 24, 2007.

Docket Numbers: ER07-1244-000.

Applicants: New England Power Pool Participants Committee.

Description: New England Power Pool Participants Committee submits counterpart signature pages of the New England Pool Agreement dated as of 9/1/71.

Filed Date: 08/01/2007.

Accession Number: 20070807-0129.

Comment Date: 5 p.m. Eastern Time on Wednesday, August 22, 2007.

Docket Numbers: ER07-1245-000.

Applicants: ISO New England Inc.

Description: ISO New England Inc et al jointly submit revised tariff sheets and supporting affidavit of Hung-Po Chao reflecting a proposed amendment to the ISO New England Information Policy.

Filed Date: 08/03/2007.

Accession Number: 20070807-0130.

Comment Date: 5 p.m. Eastern Time on Friday, August 24, 2007.

Docket Numbers: ER07-1246-000.

Applicants: Harvest WindFarm, LLC.

Description: Harvest Windfarm LLC submits an application for market-based rate authority, certain waivers and blanket authorizations.

Filed Date: 08/03/2007.

Accession Number: 20070807-0131.

Comment Date: 5 p.m. Eastern Time on Friday, August 24, 2007.

Docket Numbers: ER07-1247-000.

Applicants: FC Energy Services Company, LLC.

Description: FC Energy Services Company LLC submits its Original Sheet 1 et al to its FERC Electric Tariff 1.

Filed Date: 08/03/2007.

Accession Number: 20070807-0132.

Comment Date: 5 p.m. Eastern Time on Friday, August 24, 2007.

Docket Numbers: ER07-1248-000.

Applicants: Southwest Power Pool, Inc.

Description: Southwest Power Pool Inc proposes to revise portions of its Open Access Transmission Tariff.

Filed Date: 08/03/2007.

Accession Number: 20070807-0133.

Comment Date: 5 p.m. Eastern Time on Friday, August 24, 2007.

Docket Numbers: ER07-1249-000.

Applicants: Lockport Energy Associates, L.P.

Description: Application of Lockport Energy Associates LP for Order Accepting Initial Tariff, Waivering Regulations and Granting Blanket Approvals pursuant to Section 205 of the FPA.

Filed Date: 08/06/2007.

Accession Number: 20070807-0134.

Comment Date: 5 p.m. Eastern Time on Monday, August 27, 2007.

Docket Numbers: ER07-1250-000.

Applicants: PowerGrid Systems, Inc.

Description: PowerGrid Systems Inc submits a petition for acceptance of its FERC Electric Tariff, Original Volume 1.

Filed Date: 08/06/2007.

Accession Number: 20070807-0135.

Comment Date: 5 p.m. Eastern Time on Monday, August 27, 2007.

Docket Numbers: ER07-1251-000.

Applicants: Northern Maine Independent System Administrator, Inc.

Description: Northern Maine Independent System Administration, Inc submits revisions to the NMISA FERC Electric Tariff, Original Volume 1.

Filed Date: 08/03/2007.

Accession Number: 20070807-0136.

Comment Date: 5 p.m. Eastern Time on Friday, August 24, 2007.

Docket Numbers: ER07-1252-000.

Applicants: Entergy Services, Inc.

Description: Entergy Services, Inc acting as agent for Entergy Operating Companies submits unexecuted First Revised Transmission Service Agreement between Entergy & American Electric Power Service Corp.

Filed Date: 08/06/2007.

Accession Number: 20070807-0209.

Comment Date: 5 p.m. Eastern Time on Monday, August 27, 2007.

Docket Numbers: ER07-1253-000.

Applicants: Delaware Municipal Electric Corporation.

Description: Delaware Municipal Electric Corporation, Inc submits FERC Electric Tariff, Original Volume 1 & supporting cost data.

Filed Date: 08/06/2007.

Accession Number: 20070807-0208.

Comment Date: 5 p.m. Eastern Time on Monday, August 27, 2007.

Docket Numbers: ER07-1254-000.

Applicants: Midwest Independent Transmission System Operator, Inc.

Description: Midwest Independent Transmission System Operator Inc submits proposed revisions to Articles two & five & Appendices A & F of the agreement of transmission facilities owners.

Filed Date: 08/06/2007.

Accession Number: 20070807-0210.

Comment Date: 5p.m. Eastern Time on Monday, August 27, 2007.

Take notice that the Commission received the following electric securities filings:

Docket Numbers: ES07-50-000.

Applicants: Monongahela Power Company.

Description: Monongahela Power Company submits application for authorization under Section 204(A) of the Federal Power Act to Issue Securities under ES07-50.

Filed Date: 07/27/2007.

Accession Number: 20070809-0138.

Comment Date: 5 p.m. Eastern Time on Friday, August 17, 2007.

Docket Numbers: ES07-55-000.

Applicants: Entergy Nuclear Palisades, LLC.

Description: Application Requesting Rescission of Certain Section 204 Authorization and Request for Blanket Authorization Under Part 34 for Entergy Nuclear Palisades, LLC.

Filed Date: 08/02/2007.

Accession Number: 20070802-5055.

Comment Date: 5 p.m. Eastern Time on Thursday, August 23, 2007.

Take notice that the Commission received the following open access transmission tariff filings:

Docket Numbers: OA07-80-000.

Applicants: MidAmerican Energy Company.

Description: MidAmerican Energy Company submits supplements to their 7/13/07 filing and submits pro forma Second Revised Sheet 137 and 140 of the Open Access Transmission Tariff.

Filed Date: 08/01/2007.

Accession Number: 20070802-0023.

Comment Date: 5 p.m. Eastern Time on Wednesday, August 22, 2007.

Take notice that the Commission received the following electric reliability filings:

Docket Numbers: RR06-1-010.

Applicants: North American Electric Reliability Corp.

Description: Compliance Filing of the North American Electric Reliability Corporation in Response to June 7, 2007 Order.

Filed Date: 08/06/2007.

Accession Number: 20070806-5027.

Comment Date: 5 p.m. Eastern Time on Monday, August 27, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Acting Secretary.

[FR Doc. E7-15990 Filed 8-14-07; 8:45 am]

BILLING CODE 6717-01-P